ENVIRONMENTAL PROTECTION AGENCY

[EPA-HQ-OPP-2025-0283; FRL-12860-01-OCSPP]

Isocycloseram; Receipt of Application for Emergency Exemption, Solicitation of Public Comment

AGENCY: Environmental Protection Agency (EPA).

ACTION: Notice.

SUMMARY: EPA is announcing a specific exemption request from the New York State Department of Environmental Conservation to use the insecticide isocycloseram (CAS No. 2061933-85-3) to treat up to 2,500 acres of bulb onion to control onion thrips. The applicant proposes the use of a new chemical which has not been registered by EPA. Due to the urgent nature of the emergency, the limited time available to authorize this request in time for the use season, and the recently concluded public participation process for the related proposed Section 3 product registration for the same use, EPA has eliminated the public comment period. Nonetheless, interested parties may still contact the Agency with information about this notice and treatment program.

ADDRESSES: The docket for this action, identified by docket identification (ID) number EPA-HQ-OPP-2025-0283, is available online at https://www.regulations.gov. Additional information about dockets generally, is available at https://www.epa.gov/dockets.

FOR FURTHER INFORMATION CONTACT: Charles Smith, Director, Registration Division (7505T), Office of Pesticide Programs, Environmental Protection Agency, 1200 Pennsylvania Ave. NW, Washington, DC 20460-0001; main telephone number: (202) 566-2875; email address: RDFRNotices@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What is EPA's authority for taking this action?

Under section 18 of the Federal Insecticide, Fungicide, and Rodenticide Act (FIFRA) (7 U.S.C. 136p), at the discretion of the EPA Administrator, a Federal or State agency may be exempted from any provision of FIFRA if the EPA Administrator determines that emergency conditions exist which require the exemption. EPA implementing regulations are set forth in 40 CFR part 166.

C. What action is the Agency taking?

EPA is announcing receipt of a request submitted to EPA under FIFRA section 18. This notice does not constitute a decision by EPA on the application itself. The regulations governing FIFRA section 18 require publication of a notice of receipt of an application for a specific exemption proposing use of a new chemical (i.e., an active ingredient) which has not been registered by EPA.

II. Summary of the Request Received

The New York Department of Environmental Conservation has requested that EPA issue a specific exemption for the use of isocycloseram in bulb onion to control onion thrips. Information in accordance with 40 CFR part 166 was submitted as part of this request.

As part of this request, the applicant asserts that onion thrips is considered the most important insect pest of onion in New York, and emergency conditions exist due to high onion thrip infestations in bulb onion that spread pathogens, causing devasting damage and loss of entire onion fields. New York onion growers face difficulty protecting their crop from significant economic loss due to insufficient tools for season-long control of onion thrip in onion.

The applicant proposes to make a maximum of two applications or up to 160.2 gallons of the unregistered product, A21550 CP, containing 3.33 lb. a.i. of the active ingredient isocycloseram per gallon, to treat a maximum of 2,500 acres of bulb onion requested under this specific exemption during the use season that began June 1 through September 30, 2025. The total amount of pesticide applied is not to exceed 160.2 gallons of product and can only be used in the following New York counties: Genessee, Madison, Oneida, Orange, Orleans, Oswego, Steuben, Wayne, and Yates.

As noted above, the Agency is eliminating the comment period due to the urgent nature of the emergency situation, limited time available to authorize the request in time for the use season, and the recently concluded public participation process for the related proposed Section 3 product registration for the same use.

Nonetheless, interested parties may still contact the agency with information about this notice and treatment program through the email address under FOR FURTHER INFORMATION CONTACT.

Authority: 7 U.S.C. 136 et seq.

Dated: June 30, 2025.
Charles Smith,
Director, Registration Division, Office of Pesticide Programs.

[FR Doc. 2025-12348 Filed 7-1-25; 8:45 am]

BILLING CODE 6560-50-P